DEPARTMENT OF AGRICULTURE

Grain Inspection, Packers and Stockyards Administration

Opportunity To Comment on the Applicants for the Georgia Area Consisting of the Entire State of Georgia

AGENCY: Grain Inspection, Packers and Stockyards Administration (GIPSA), USDA.

ACTION: Notice and request for comments.

SUMMARY: GIPSA requests comments on the applicants for designation to provide official weighing and official inspection services under the United States Grain Standards Act in the Georgia Area that was open for designation. Georgia Department of Agriculture (GDA) applied for the entire State of Georgia. D.R. Schaal Agency, Inc. (Schaal) applied for all or part of the State of Georgia.

DATES: GIPSA will consider comments received by August 23, 2017.

ADDRESSES: We invite you to submit comments on these applicants. You may submit comments by any of the following methods:

• Mail, Courier or Hand Delivery: Sharon Lathrop, Compliance Officer, USDA, GIPSA, FGIS, QACD, 10383 North Ambassador Drive, Kansas City, MO 64153.

• Fax: Sharon Lathrop, 816-872-1257.

• Email: FGIS.QACD@usda.gov.

• Submit Comments using the Internet: Go to http://www.regulations.gov. Instructions for submitting and reading comments are detailed on the site.

Read Applications and Comments: All applications and comments will be available for public inspection at the office above during regular business hours (7 CFR 1.27(c)).

FOR FURTHER INFORMATION CONTACT: Sharon Lathrop, 816-891-0415 or FGIS.QACD@usda.gov.

SUPPLEMENTARY INFORMATION: In the April 17, 2017, Federal Register (82 FR 18101), GIPSA asked persons interested in providing official services in the Georgia Area to submit an application for designation.

There were two applicants for the Georgia Area, comprised of the entire State of Georgia that was open for designation: GDA applied for the entire area currently assigned to them. Schaal applied for the entire State or the following 13 counties within the State of Georgia: Bryan, Bulloch, Burke, Candler, Chatham, Effingham, Emanuel, Evans, Jefferson, Jenkins, Johnson, Screven, and Washington.

Request for Comments

GIPSA is publishing this notice to provide interested persons the opportunity to submit comments about the applicants. Commenters are encouraged to submit reasons and pertinent data for support or objection to the designation of the applicants. All comments must be submitted to QACD at the above address or at http://www.regulations.gov. GIPSA will consider all comments received timely along with other available information when making a final decision. GIPSA will then publish a notice of the final decision in the Federal Register, and will send the applicants written notification of its decision.

Authority: 7 U.S.C. 71-87k.

Randall D. Jones,
Acting Administrator, Grain Inspection, Packers and Stockyards Administration.

[FR Doc. 2017-15417 Filed 7-21-17; 8:45 am]

BILLING CODE 3410-KD-P